DEPARTMENT OF COMMERCE

National Oceanic and Atmospheric Administration

RIN 0648-XK51

Fisheries of the South Atlantic and Gulf of Mexico; SEDAR; Public Meetings

AGENCY: National Marine Fisheries Service (NMFS), National Oceanic and Atmospheric Administration (NOAA), Commerce.

ACTION: Notice of Southeastern Data, Assessment, and Review (SEDAR) Procedural Workshop on Catchability.

SUMMARY: Due to a paucity of fishery-independent monitoring information, stock assessments of Southeastern fisheries resources conducted through SEDAR rely heavily on evaluating fishery-dependent data sources to detect population abundance signals. Recently, assessment methods were developed that allowed for relaxation of the constant catchability assumption typically used when analyzing fishery dependent catch per unit effort information. While both assessment scientists and participating constituent representatives agree it is highly unlikely that catchability has remained constant, agreeing on the specifics that allow incorporating catchability changes remains a challenge.

SEDAR will convene a workshop including representatives from Federal and state agencies, non-governmental organizations, Council technical and constituent advisors, and university researchers to evaluate catchability issues. Participants will review information addressing catchability changes, develop recommendations for incorporating catchability changes in SEDAR assessments, and recommend criteria for consideration when developing catchability profiles for individual species or fisheries. Participants will prepare a SEDAR procedures document addressing their recommendations that will be used to guide future SEDAR assessments.

DATES: The SEDAR Catchability Procedural Workshop will take place November 17-20, 2008; SEDAR Catchability Procedural Workshop Schedule: November 17, 2008: 1 p.m. - 8 p.m.; November 18-19, 2008: 8 a.m. - 8 p.m.; November 20, 2008: 8 a.m. - 4 p.m.

ADDRESSES: The SEDAR Catchability Procedural Workshop will be held at the Doubletree Atlanta Buckhead, 3342 Peachtree Road, NE, Atlanta, GA 30326; telephone: (800) 222-8733.

FOR FURTHER INFORMATION CONTACT: Julie Neer, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and non-governmental organizations (NGO's); International experts; and staff of Councils, Commissions, and state and federal agencies.

Each SEDAR workshop panel is asked to provide research and monitoring recommendations to improve future assessments and feedback on the process to help improve SEDAR itself. Over time, certain key topics emerge that reveal a research need or procedural suggestion that is common to multiple assessments. The SEDAR Steering Committee endorses procedural workshops such as that noticed here to address those issues that affect multiple assessments and require more time and resources to resolve than are typically available during the normal assessment development process. The goal of these workshops is to develop guidelines and practices that will increase the efficiency of subsequent SEDAR assessments.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305 (c) of the Magnuson-Stevens Act, provided the public has been notified of the Council's intent to take final action to address the emergency.

Special Accommodations

These meetings are physically accessible to people with disabilities. Requests for sign language interpretation or other auxiliary aids should be directed to the Council office (see ADDRESSES) at least 10 business days prior to each workshop.

Dated: September 10, 2008.
Tracey L. Thompson,
Acting Director, Office of Sustainable Fisheries, National Marine Fisheries Service.

[FR Doc. E8-21470 Filed 9-12-08; 8:45 am]

BILLING CODE 3510-22-S